FEDERAL DEPOSIT INSURANCE CORPORATION

Agency Information Collection Activities: Submission for OMB Review; Comment Request

AGENCY: Federal Deposit Insurance Corporation (FDIC).

ACTION: Notice of information collection to be submitted to OMB for review and approval under the Paperwork Reduction Act of 1995.

SUMMARY: In accordance with requirements of the Paperwork Reduction Act of 1995 (44 U.S.C. 3501 et seq.), the FDIC hereby gives notice that it plans to submit to the Office of Management and Budget (OMB) a request for OMB review and approval of the following information collection systems described below.

1. Type of Review: Renewal of a currently approved collection.

Title: Interagency Biographical and Financial Report.

OMB Number: 3064-0006.

Annual Burden

Estimated annual number of respondents: 2,040.

Estimated time per response: 4 hours.

Total annual burden hours: 8,160 hours.

Expiration Date of OMB Clearance: December 31, 2002.

SUPPLEMENTARY INFORMATION: The Interagency Biographical and Financial Report is submitted to the FDIC by each individual director or officer of a proposed or operating financial institution applying for federal deposit insurance as a state nonmember bank. The information is used by the FDIC to evaluate the general character of bank management as required by the Federal Deposit Insurance Act.

2. Type of Review: Renewal of a currently approved collection.

Title: External Audits.

OMB Number: 3064-0113.

Annual Burden

Estimated number of responses: 1,215 (insured institutions with assets of $500 million or more); 15,033 (insured institutions with assets less than $500 million)

Estimated time per response: 32 hours (insured institutions with assets of $500 million or more); 3/4 hours (insured institutions with assets less than $500 million).

Total annual burden hours: 42,639 hours.

Expiration Date of OMB Clearance: December 31, 2002.

SUPPLEMENTARY INFORMATION: Section 36 of the Federal Deposit Insurance Act imposes auditing and reporting requirements on insured depository institutions which have total assets of $500 million or more. An interagency policy statement extended those requirements on a voluntary basis to institutions with less than $500 million.

OMB Reviewer: Joseph F. Lackey, Jr. (202) 395-4741, Office of Management and Budget, Office of Information and Regulatory Affairs, Washington, DC 20503.

FDIC Contact: Tamara R. Manly, (202) 898-7453, Legal Division, Room MB-3109, Federal Deposit Insurance Corporation, 550 17th Street NW., Washington, DC 20429.

Comments: Comments on these collections of information are welcome and should be submitted on or before December 19, 2002 to both the OMB reviewer and the FDIC contact listed above.

ADDRESSES: Information about this submission, including copies of the proposed collections of information, may be obtained by calling or writing the FDIC contact listed above.

Dated: November 13, 2002.
Federal Deposit Insurance Corporation:
Valerie Best,
Assistant Executive Secretary.

[FR Doc. 02-29273 Filed 11-18-02; 8:45 am]

BILLING CODE 6714-01-P